GENERAL SERVICES ADMINISTRATION

[Notice-MRB-2023-07; Docket No. 2023-0002; Sequence No. 47]

GSA Acquisition Policy Federal Advisory Committee; Notification of Upcoming Web-Based Public Meeting

AGENCY: Office of Government-wide Policy (OGP), General Services Administration (GSA).

ACTION: Meeting notice.

SUMMARY: Notice of these Web-based subcommittee meetings is being provided in accordance with GSA's Federal Advisory Committee Management Program regulations. This notice provides the updated schedule for a series of Web-based meetings for three subcommittees of the GSA Acquisition Policy Federal Advisory Committee (GAP FAC): the Acquisition Workforce Subcommittee, the Industry Partnerships Subcommittee, and the Policy and Practice Subcommittee. These subcommittee meetings are open to the public. Information on attending and providing written public comment is under the SUPPLEMENTARY INFORMATION section.

DATES: The three Subcommittees will hold recurring Web-based meetings 3 p.m. to 5 p.m., eastern standard time (EST)on the following dates:

Acquisition workforce subcommittee | Industry partnerships subcommittee | Policy and practice subcommittee
1/22/24 | 1/23/24 | 1/25/24
2/23/24 | 2/20/24 | 2/22/24
3/18/24 | 3/19/24 | 3/21/24
4/15/24 | 4/16/24 | 4/18/24

ADDRESSES: The meetings will be accessible via webcast. Registrants will receive the webcast information before the meeting.

FOR FURTHER INFORMATION CONTACT: Boris Arratia, Designated Federal Officer, Office of Government-wide Policy, 703-795-0816, or email: boris.arratia@gsa.gov; or Stephanie Hardison, Office of Government-wide Policy, 202-258-6823, or email: stephanie.hardison@gsa.gov. Additional information about the subcommittees and the Committee, including meeting materials and agendas, will be available on-line at https://gsa.gov/policy-regulations/policy/acquisition-policy/gsa-acquisition-policy-federal-advisory-committee.

SUPPLEMENTARY INFORMATION:

Background

The GAP FAC serves as an advisory body to GSA's Administrator on how GSA can use its acquisition tools and authorities to target the highest priority Federal acquisition challenges. To accomplish its work, the GAP FAC established three subcommittees: Policy and Practices, Industry Partnerships, and Acquisition Workforce.

The Policy and Practice Subcommittee will focus on procurement policy that supports robust climate and sustainability action. This group will focus on regulatory, policy, and process changes required to embed climate and sustainability considerations in Federal acquisitions.

The Industry Partnerships Subcommittee will investigate ways to expand a climate focus on Federal acquisition while reinforcing inclusion, domestic sourcing, small business opportunity, and innovation from an Industry standpoint. This includes identifying and addressing gaps in sustainable attributes standards for the goods and services that the Federal government buys.

The Acquisition Workforce Subcommittee will explore ways to advance a culture of sustainability and climate action within the acquisition workforce. This includes equipping and enabling the acquisition workforce to effectively use sustainability as a critical element in the evaluation and source selection process.

The frequency of meetings for the three subcommittees is every four weeks to give committee members additional time to reflect on the information being provided by guest speakers. The previous notice can be found here: https://www.federalregister.gov/documents/2023/11/06/2023-24432/gsa-acquisition-policy-federal-advisory-committee-notification-of-upcoming-web-based-public-meeting.

Purpose of the Meetings

The purpose of these web-based meetings is for the subcommittees to develop recommendations for submission to the full Committee. The Committee will, in turn, deliberate on the subcommittees recommendations and decide whether to proceed with formal advice to GSA based upon them.

Meeting Agenda

• Opening Remarks

• Subject Matter Experts Presentations

• Subcommittee Member Discussions

• Closing Remarks and Adjourn

Meeting Registration

The subcommittee meetings are open to the public and will be accessible by webcast. All public attendees will need to register to obtain the meeting webcast information. Registration information is located on the GAP FAC website: https://www.gsa.gov/policy-regulations/policy/acquisition-policy/gsa-acquisition-policy-federal-advisory-committee. All registrants will be asked to provide their name, affiliation, and email address. After registration, individuals will receive webcast access information via email.

Public Comments

Written public comments are being accepted via email at gapfac@gsa.gov. To submit a written public comment, please email at gapfac.gsa.gov and include your name, organization name (if applicable), and include “GAPFAC-2022-0001” on any attached document(s) (if applicable).

Jeffrey A. Koses,
Senior Procurement Executive, Office of Acquisition Policy, Office of Government-wide Policy.

[FR Doc. 2023-28668 Filed 12-27-23; 8:45 am]

BILLING CODE 6820-RV-P